DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Community Mental Health Services Block Grant Application Guidance and Instructions, FY 2005—2007 (OMB No. 0930-0168, Revision)—Sections 1911 through 1920 of the Public Health Service Act (42 U.S.C. 300x through 300x-9) provide for annual allotments to assist States to establish or expand an organized, community-based system of care for adults with serious mental illness and children with serious emotional disturbances. Under the provisions of the law, States may receive allotments only after an application is submitted and approved by the Secretary of the Department of Health and Human Services.

For the Federal fiscal years 2005—2007 Community Mental Health Services Block Grant application cycles, SAMHSA will provide States with revised application guidance and instructions. Proposed revisions to the previously approved application include: (1) Additional introductory text on the history and goals of federal mental health funding and an orientation to the transition to Performance Partnerships Grants, (2) changes in the format of the plan, and (3) the introduction of ten performance indicators as CMHS Core Performance Indicators. With the exception of one indicator, all are currently reported through the Uniform Reporting System (URS) and will not increase the State's burden; one indicator is currently in developmental status and beginning in FY 2004, States were given three years to develop capacity to report data for this indicator. The following table summarizes the annual burden for the revised application.

Part of application | Number of responses | Responses respondent | Burden response (hrs.) | Total burden hours
Plan—(Parts B and C):
1 year | 33 | 1 | 190 | 6,270
2 year | 12 | 1 | 160 | 1,920
3 year | 14 | 1 | 120 | 1,680
Implementation Report (Part D) | 59 | 1 | 85 | 5,015
Data Tables (Part E) | 59 | 1 | 40 | 2,360
Copy Plan and Report having more than 120 pages in length | 10 | 2 | 1 | 20
Total | 59 | 1 |  | 17,265

Send comments to Nancy Pearce, SAMHSA Reports Clearance Officer, Room 16-105, Parklawn Building, 5600 Fishers Lane, Rockville, MD 20857. Written comments should be received within 60 days of this notice.

Dated: December 9, 2003.
Anna Marsh,
Acting Executive Officer, SAMHSA.

[FR Doc. 03-30950 Filed 12-15-03; 8:45 am]

BILLING CODE 4162-20-P